FEDERAL COMMUNICATIONS COMMISSION

47 CFR Part 73

[MB Docket No. 17-106, FCC 17-137]

Elimination of Main Studio Rule

AGENCY: Federal Communications Commission.

ACTION: Final rule; announcement of effective date.

SUMMARY: In this document, the Commission announces that the Office of Management and Budget (OMB) has approved the non-substantive change request for the information collection requirements contained in FCC 17-137. This document is consistent with the Report and Order, which stated that the Commission would publish a document in the Federal Register announcing OMB approval and the effective date of these rules.

DATES: 47 CFR 73.3526(c)(1) and 73.3527(c)(1), published at 82 FR 57876, December 8, 2017 are effective on January 8, 2018.

FOR FURTHER INFORMATION CONTACT: Diana Sokolow, Policy Division, Media Bureau, at (202) 418-2120, or email: diana.sokolow@fcc.gov.

SUPPLEMENTARY INFORMATION: This document announces that, on December 4, 2017, OMB approved the non-substantive change request that the Commission submitted pertaining to the revisions to sections 73.3526(c)(1) and 73.3527(c)(1) contained in the Commission's Order, FCC 17-137, published at 82 FR 57876, December 8, 2017. The OMB Control Number is 3060-0214. The non-substantive changes to OMB control number 3060-0214 did not change the burden hours or annual costs to that information collection. They remain unchanged and those burdens and costs are not impacted by the information collection requirements contained in FCC 17-137. The Commission publishes this notice as an announcement of the effective date of the rules. Because we received OMB approval for the non-substantive change request in advance of the effective date for the rule changes that did not require OMB approval, all of the rule changes contained in the Commission's Order, FCC 17-137, will share the same effective date of January 8, 2017.

Federal Communications Commission.
Marlene H. Dortch,
Secretary.

[FR Doc. 2017-27197 Filed 12-15-17; 8:45 am]

BILLING CODE 6712-01-P